DEPARTMENT OF VETERANS AFFAIRS

38 CFR Part 3

RIN 2900-AK95

Recoupment of Severance Pay From VA Compensation; Correction

AGENCY: Department of Veterans Affairs.

ACTION: Correcting Amendment.

SUMMARY: This document contains a correction to the regulation of the Department of Veterans Affairs (VA) that governs recoupment of lump-sum readjustment pay from disability compensation. This correction is required in order to amend an authority citation in the regulation. No substantive change to the content of the regulation is being made by this correcting amendment.

DATES: Effective: July 24, 2009.

FOR FURTHER INFORMATION CONTACT: James E. Figliozzi, Office of Regulation Policy and Management (02REG), Department of Veterans Affairs, 810 Vermont Ave., NW., Washington, DC 20420, (202) 461-4902.

SUPPLEMENTARY INFORMATION: VA published an amendment to a final rule in the Federal Register on September 27, 2002 (See 67 FR 60868), that, among other things, added 10 U.S.C. 1174(h)(2) and 10 U.S.C. 1212(c) as authority citations for 38 CFR 3.700(a)(2)(iii). The citation to 10 U.S.C. 1212(c) is incorrect, because that statute governs the recoupment of disability severance pay. A subsequent amendment to the final rule on June 5, 2009 (See 74 FR 26957) retained this incorrect authority citation. This document corrects that error. Because the citation to 10 U.S.C. 1174(h)(2) is correct, it remains unchanged.

List of Subjects in 38 CFR Part 3

Administrative practice and procedure, Claims, Disability benefits, Health care, Pensions, Veterans, Vietnam.

Accordingly, 38 CFR part 3 is corrected by making the following correcting amendment:

PART 3—ADJUDICATION

1. The authority citation for part 3, subpart A continues to read as follows:

Authority: 38 U.S.C. 501(a), unless otherwise noted.

2. In § 3.700, revise the authority citation after paragraph (a)(2)(iii) to read as follows:

§ 3.700 General.

* * * * *

(a) * * *

(2) * * *

(iii) * * *

(Authority: 10 U.S.C. 1174(h)(2))

* * * * *

William F. Russo,
Director of Regulations Management.

[FR Doc. E9-17308 Filed 7-23-09; 8:45 am]

BILLING CODE P